DEPARTMENT OF AGRICULTURE

Forest Service

Humboldt Resource Advisory Committee (RAC)

AGENCY: Forest Service, USDA.

ACTION: Notice of meeting.

SUMMARY: The Humboldt Resource Advisory Committee (RAC) will meet in Eureka, California. The committee meeting is authorized under the Secure Rural Schools and Community Self-Determination Act (Pub. L. 110-343) and in compliance with the Federal Advisory Committee Act.

DATES: The meeting will be held December 7, 2010, from 5 p.m. to 7 p.m.

ADDRESSES: The meeting will be held at the Six Rivers National Forest Office, 1330 Bayshore Way, Eureka, CA 95501.

FOR FURTHER INFORMATION CONTACT: Adam Dellinger, Committee Coordinator, at (707) 441-3569; e-mail adellinger@fs.fed.us.

SUPPLEMENTARY INFORMATION: The meeting is open to the public. The agenda includes: Reviewing the status of Title II project submissions, voting process for recommendation of project funding, and public comment period.

Dated: November 3, 2010.
Tyrone Kelley,
Forest Supervisor.

[FR Doc. 2010-28598 Filed 11-12-10; 8:45 am]

BILLING CODE P